DEPARTMENT OF LABOR

Employment and Training Administration

Workforce Investment Act—Small Grassroots Organizations Connecting With the One-Stop Delivery System

Announcement Type: New—Notice of Solicitation for Grant Application.

Funding Opportunity Number: SGA/DFA PY-04-03.

Catalog of Federal Domestic Assistance CFDA Number: 17.257.

Key Dates: Deadline for Application Receipt—April 28, 2005.

SUMMARY: The Employment and Training Administration (ETA), U.S. Department of Labor (DOL) announces the availability of $1,000,000 to award grants to eligible “grassroots” organizations with the ability to connect to the local One-Stop delivery system. The term “grassroots” is defined under the Eligibility Criteria.

DATES: The closing date for receipt of applications under this announcement is April 28, 2005. Applications must be received no later than 5 p.m. (Eastern Time). Application and submission information is explained in detail in Section IV of this SGA.

Authorities: These grants are made under the following authorities:

• Wagner Peyser Act, 29 U.S.C. 49 et seq.

• The Workforce Investment Act of 1998, U.S.C. 2801 et seq.

• Workforce Investment Act Regulation codified at (20 CFR pts. 660-671)

• Exe. Order No. 13198, Agency responsibilities with respect to Faith-Based and Community Initiatives, 66 FR 8497 (Jan. 31, 2001)

• Training and Employment Guidance Letter 17-01, Incorporating and Utilizing Grassroots, Community-Based Organizations Including Faith-Based Organizations in Workforce Investment Activities and Programs (2002)

• Exec. Order No. 13279, Equal Protection of the Laws for Faith-Based and Community Organizations, 67 FR 77141 (Dec. 16, 2002)

SUPPLEMENTARY INFORMATION: This solicitation consists of eight parts:

• Part I describes an overview of the funding opportunity

• Part II describes the size and nature of the award.

• Part III describes who qualifies as eligible applicants.

• Part IV provides information on the application and submission process.

• Part V explains the review process and rating criteria that will be used to evaluate applications for funding.

• Part VI provides award administration information.

• Part VII contains DOL agency contact information.

• Part VIII lists additional resources of interest to applicants.

I. Funding Opportunity Description

1. Overview of the WIA

The WIA established a comprehensive reform of existing Federal job training programs with amendments impacting service delivery under the Wagner-Peyser Act, 29 U.S.C. 49 et seq. (1998), Adult Education and Literacy Act, 29 U.S.C. 9201 (1998), and the Rehabilitation Act., 29 U.S.C. 701 (1998). A number of other Federal programs are also identified as required partners in the One-Stop delivery system to provide comprehensive services for all Americans to access the information and resources available to help achieve their career goals. The intention of the One-Stop delivery system is to establish a network of programs and providers in co-located and integrated settings that are accessible for individuals and businesses alike in approximately 600 workforce investment areas established throughout the nation. There are currently over 1,900 comprehensive One Stop Centers and over 1,600 affiliated One Stop Centers across the United States. The WIA established state and local Workforce Investment Boards focused on strategic planning, policy development, and oversight of the workforce investment system, and accorded significant authority to the nation's Governors and local chief elected officials to further implement innovative and comprehensive delivery systems. The vision, goals and objectives for workforce development under the WIA decentralized system are fully described in the state strategic plan required under Section 112 of the statute. This state strategic workforce investment plan—and the operational experience gained by all the partners to date in implementing the WIA-instituted reforms—help identify the important “unmet needs” and latent opportunities to expand access to One-Stop delivery systems by all the population segments within the local labor market.

2. Administration Strategy

Engagement of Faith-Based and Community Organizations Under the Workforce Investment Act. On January 29, 2001, President George W. Bush issued Executive Order 13198, creating the Office for Faith-Based and Community Initiatives in the White House and centers for faith-based and community initiatives (CFBCI) in the Departments of Labor (DOL), Health and Human Services (HHS), Housing and Urban Development (HUD), Education (ED), Justice (DOJ). President Bush charged the departmental centers with identifying statutory, regulatory, and bureaucratic barriers that stand in the way of effective faith-based and community initiatives, and to ensure, consistent with the law, that these organizations have equal opportunity to compete for federal funding and other support.

In early 2002, the CFBCI and ETA developed and issued SGAs to engage intermediary and grassroots organizations in our workforce system-building. These SGAs were designed to involve faith-based and community-based organizations in service delivery and to strengthen their existing partnership with the local One-Stop delivery system, while providing additional points of entry for customers into that system.

These 2002 grants embodied the Department's principal strategy for implementing the Executive Order by creating new avenues through which qualified organizations could participate more fully under the WIA, while applying their particular strengths and assets in providing services to our customers. These solicitations also proceeded from an ETA-CFBCI mutual premise that the involvement of community-based organizations and faith-based organizations can both complement and supplement the efforts of local workforce investment systems in being accessible to, and serving the training, job and career-support needs of, many of our citizens. Both ETA and CFBCI are committed to bringing new grassroots organizations to workforce system-building through the issuance of a new solicitation in 2005. This new solicitation draws on “lessons learned” in 2002, 2003 and 2004 while introducing several “promising practices” introduced by other ETA grantees. The new solicitation also places significant emphasis on performance outcomes—documenting and quantifying the additional value the grassroots organization brings to the One-Stop delivery system in the community.

Through this competition, ETA seeks to ensure that an important WIA tenet—universal access to the programs and services offered under WIA—is further rooted in the customer-responsive delivery systems already established by the Governors, local elected officials and local Workforce Investment Boards. ETA also reaffirms its continuing commitment to those customer-focused reforms instituted by state and local governments, which help Americans access the tools they need to manage their careers through information and high quality services, and to help U.S. companies find skilled workers.

Faith-based and community-based organizations present strong credentials for full partnership in our mutual system-building endeavors. Faith-based and community-based organizations are trusted institutions within our poorest neighborhoods. Faith-based and community-based organizations are home to a large number of volunteers who bring not only the transformational power of personal relationships to the provision of social service but also a sustained allegiance to the well-being and self-sufficiency of the participants they serve. Through their daily work and specific programs, these organizations strive to achieve some common purposes shared with government—reduction of welfare dependency, attainment of occupational skills, entry and retention of all our citizens in good-paying jobs. Through this solicitation, ETA and CFBCI strive to leverage these programs, resources and committed staff into the workforce investment strategies already embodied in state and local strategic plans.

3. Project Objectives

The selected grantees will be expected to achieve the following objectives:

• Help individuals enter employment with career opportunities or increase skills and education, both through (i) providing services such as education, pre- and post-job placement mentoring, life skills training, employability skills training, job coaching, and (ii) utilizing the services of the One-Stop Career Center.

• Expand the access of faith-based and community-based organizations' clients and customers to the training, job and career services offered by the local One-Stop Career Centers;

• Effectively maximize the dollars invested by leveraging volunteer and in-kind donations;

• Thoroughly document the impact and outcomes of these grant investments through quarterly and annual reporting; and

• Establish methods and mechanisms to ensure sustainability of these partnerships and participation levels beyond the life of the grant.

II. Award Information

1. Funding Availability and Period of Performance

ETA has identified $1,000,000 from the FY 2005 appropriation for One-Stop/America's Labor Market Information System. The agency expects to award approximately 40-50 grants. The grant amount for each grassroots organization is expected to range between $20,000 and $25,000. The period of performance will be 12 months from the date of execution by the Department.

2. Anticipated Announcement and Award Dates

Announcement of this award is expected to occur by June 30, 2005.

III. Eligibility Information

1. Eligible Applicants

For purposes of this announcement, eligible grassroots organizations must be non-profit organizations which:

• Have social services as a major part of their mission;

• Are headquartered in the local community to which they provide these services;

• (a) Have a social services budget of $350,000 or less, or (b) Have 6 or fewer full-time equivalent employees.

Neutral, non-religious criteria that neither favor nor disfavor religion will be employed in the Department's selection of grant recipients and must be employed by grantee recipients in the selection of sub-recipients.

The government is prohibited from providing direct financial assistance for inherently religious activity.* Therefore, as a general rule, awards may not be used for religious instruction, worship, prayer, proselytizing or other inherently religious activities, and participation in such activities must be voluntary. (If, however, an organization receives financial assistance as a result of the choice of a beneficiary, such as through a voucher, the organization may integrate religion throughout its program).

*In this context, the term financial assistance that is provided directly by a government entity or an intermediate organization, as opposed to financial assistance that an organization receives as the result of the genuine and independent private choice of a beneficiary. In other contexts, the term “direct” financial assistance may be used to refer to financial assistance that an organization receives directly from the Federal government (also known as “discretionary” assistance), as opposed to assistance that it receives from a state or local government (also known as “indirect” or “block” grant assistance). The term “direct” has the former meaning throughout this SGA.

2. Cost Sharing or Matching

This solicitation does not require grantees to share costs or provide matching funds.

3. Other Eligibility Requirements

Veterans Priority: In addition, this program is subject to the provisions of the Jobs for Veterans Act, Pub. L. 107-288, which provides priority of services to veterans and in some cases their spouses in all DOL funded job training programs. Please note that, to obtain priority of service, a veteran or spouse must meet the program's eligibility requirements. The directive providing policy guidance on veterans' priority is available at http://www.doleta.gov/programs/VETs/.

IV. Application and Submission Information

1. Address To Request Application Package

This SGA contains all of the information and forms needed to apply for grant funding.

2. Content & Form of Application Submission

Applicants must submit one signed original and three copies of their proposal. The Statement of Work must be limited to five (5) pages. The only attachments permitted will be agreements with, or letters of support from, local Workforce Investment Boards and/or local One-Stop operators. The application must be double-spaced, and on single-sided, numbered pages. A font size of at least twelve (12) pitch is required with one-inch margins (top, bottom and sides.)

Required Contents

There are three required sections:

• Section I—Application for Federal Assistance (Standard Form SF-424)

• Section II—Budget Information (Standard Form SF-424A)

• Section III—Technical Proposal—Statement of Work

Section I—Application for Federal Assistance SF-424

Form SF-424 is included in the announcement as Appendix A. (also available at http://www.whitehouse.gov/omb/grants/sf424.pdf). It must be signed by a representative authorized by the governing body of the applicant to enter into grant agreement. All applications are required to have a Dun and Bradstreet (DUNS) number recorded in item #5 of SF-424 (Rev. 9-2003). To obtain a DUNS number, access www.dunandbradstreet.com or call 1-866-705-5711.

Section II—Budget Information (SF-424A)

The budget information form SF-424A, is included in the announcement as Appendix B (also available at http://www.whitehouse.gov/omb/grants/sf424a.pdf).

The applicant must provide a concise narrative explanation to support its budget request.

Section III—Technical Proposal (Statement-of-Work)

(not to exceed 5 typed, double space pages)

The Statement of Work sets forth a strategic plan for the use of awarded funds and establishes measurable goals for increasing organizational participation in the One-Stop delivery system to serve more fully the clientele and members of community-based and faith-based organizations.

3. Submission Dates and Times

The closing date for receipt of applications under this announcement is April 28, 2005. Applications must be received at the address below no later than 5 p.m. (Eastern Time). Applications sent by e-mail, telegram, or facsimile (fax) will not be accepted. Applications that do not meet the conditions set forth in this notice will not be honored. No exceptions to the mailing and delivery requirements set forth in this notice will be granted. Mailed applications must be addressed to the U.S. Department of Labor, Employment and Training Administration, Division of Federal Assistance, Attention: Marsha G. Daniels, Reference SGA/DFA PY04-03, 200 Constitution Avenue, NW., Room N-4438, Washington, DC 20210. Applicants are advised that mail delivery in the Washington area may be delayed due to mail decontamination procedures. Hand delivered proposals will be received at the above address. All overnight mail will be considered to be hand-delivered and must be received at the designated place by the specified closing date.

Applicants may apply online at http://www.grants.gov. Any application received after the deadline will not be accepted. For applicants submitting electronic applications via Grants.gov, it is strongly recommended that you immediately initiate and complete the “Get Started” steps to register with Grants.gov at http://www.grants.gov/GetStarted. These steps will probably take multiple days to complete which should be factored in to your plans for electronic application submission in order to avoid facing unexpected delays that could result in the rejection of your application.

Late Applications: Any application received after the exact date and time specified for receipt at the office designated in this notice will not be considered, unless it is received before awards are made and it (a) was sent by U.S. Postal Service registered or certified mail not later than the fifth calendar day before the date specified for receipt of applications (e.g., an application required to be received by the 20th of the month must be post marked by the 15th of that month) or (b) was sent by U.S. Postal Service Express Mail or Online to addressee not later than 5 p.m. at the place of mailing or electronic submission one working day prior to the date specified for receipt of applications. It is highly recommended that online submissions be completed one working day prior to the date specified for receipt of applications to ensure that the applicant still has the option to submit by U.S. Postal Service Express Mail in the event of any electronic submission problems. “Post marked” means a printed, stamped or otherwise placed impression (exclusive of a postage meter machine impression) that is readily identifiable, without further action, as having been supplied or affixed on the date of mailing by an employee of the U.S. Postal Service. Therefore, applicants should request the postal clerk to place a legible hand cancellation “bull's eye” postmark on both the receipt and the package. Failure to adhere to the above instructions will be a basis for a determination of nonresponsiveness.

4. Funding Restrictions

Determinations of allowable costs will be made in accordance with the applicable Federal cost principles, e.g., Non-Profit Organizations—OMB Circular A-122. Disallowed costs are those charges to a grant that the grantor agency or its representative determines not to be allowed in accordance with the applicable Federal Cost Principles or other conditions contained in the grant.

Administrative Costs: The primary use of the grant funds should be used to support the actual project. Therefore, applicants receiving grant funds under this solicitation may not use more than 10 percent of the amount of the grant for administrative costs associated with the project. Administrative costs are defined at 20 CFR 667.220.

Other Submission Requirements

Withdrawal of Applications. Applications may be withdrawn by written notice or telegram (including mailgram) received at any time before an award is made. Applications may be withdrawn in person by the applicant or by an authorized representative thereof, if the representative's identity is made known and the representative signs a receipt for the proposal.

V. Application Review Information

1. Evaluation Criteria

This section identifies and describes the criteria that will be used to evaluate grant proposals from Small Grassroots Organizations. Below are the required elements of the Statement of Work and the rating criteria that reviewers will use to evaluate the proposal.

A. Organizational History and Description of Community Need (15 points)

• Describe the structure of the applicant's organization. Describe the history of the organization in meeting community needs, and include a brief listing of services provided.

• Describe the overall community need. What services will your organization provide to address a need that the One-Stop Career Center is not fully addressing? (This description must include coverage of population(s) to be served and the services to be provided. Populations can include such groups as: ex-offenders, immigrants, limited English-speakers, veterans, victims of violent crime, homeless persons, and individuals with disabilities. Services can include, but are not limited to such activities as: education, pre and post job placement mentoring, life skills training, employability skills training, and job coaching. Other populations and services can be identified.)

Scoring of this criterion will be based on the following.

1. Does the description reflect a clear understanding of a community need? (15 points)

B. Description of Partnerships and Linkages (20 points)

• Please describe your plans to work as a partner with the One-Stop delivery system to help the target population you described above, enter and succeed in the workforce. If you have not previously worked with a One-Stop Career Center, please describe actions you have taken to develop a relationship with a One-Stop Career Center. If you have worked with a One-Stop Career Center in the past, please describe what actions you have taken to further develop your relationship. Please attach agreements with, or letters of support from, local Workforce Investment Boards and/or local One-Stop operators with whom you are working, or with whom you have developed a relationship, as you have designed this proposal.

• Please describe the relationships you have with other non-profit organizations that provide similar or complementary services. Please explain how you will leverage pre-existing relationships and partnerships to help achieve your goals for the populations you will serve and how you will avoid duplication of existing services. If you do not have relationships with other non-profit organizations, please explain the reason and how you plan to develop new relationships.

Scoring of this criterion will be based on the following.

1. Does the narrative describe an approach and process by which the applicant will successfully partner with the One-Stop delivery system to address the unmet need? (6 points)

2. Does the applicant present evidence of discussions with the One-Stop delivery system (e.g., a signed letter from the Local Workforce Investment Board or other One-Stop delivery system principals)? (5 points)

3. Does the applicant's history of collaboration with other non-profit organizations in the community support the conclusion that these grant activities will be successful? (4 points)

4. Does the applicant show that it will take the appropriate steps to develop relationships with other local non-profit organizations delivering services to similar populations. (5 points)

C. Presentation of Strategic Plan, Goals, and Timeline (50 points)

• The applicant must describe the methodology for providing services, including any educational or training curriculum or other tools to be used. Describe the staff/volunteer positions that will be providing services under this grant.

• The applicant must present a timeline of major, measurable tasks and activities to be undertaken. The timeline must include how many people will receive services and/or participate and complete classes detailed in the training curriculum.

• The applicant must also describe the measurable outcomes that the program participants will achieve over the life of this grant. Measurable outcomes must include how many participants will enter employment over the grant period and how many of those individuals will stay employed through the end of the grant period (retention). Outcomes also include measures such as how many participants will increase numeracy or literacy or enter an educational or training program or the average increase of wages for program participants. The Department understands that these outcomes will be achieved by bringing together the resources of the workforce system as well as the grantee.

Scoring of this criterion will be based on the following.

1. Do the activities and tasks presented on the timeline appear to be achievable with the likelihood of project success given available resources? (20 points)

2. Does the applicant provide tangible outcome measures and goals that allow both the applicant and DOL to gauge the impact of the activities on meeting the community need? (15 points)

3. Do these goals include tracking employment outcomes and retention outcomes for those served? (15 points)

D. Description of Measurements of Success (15 points)

• Describe what mechanisms you will develop, in partnership with the One-Stop delivery system, to track your success in achieving promised goals and outcomes.

• Describe any other methods you will use for evaluating your project's success.

Scoring of this criterion will be based on the following.

1. Does the applicant reflect an understanding of what it would need to do in order to track progress and success? (15 points)

2. Review and Selection Process

A technical review panel will make a careful evaluation of applications against the rating criteria. The review panel recommendations are advisory. The ETA grant officer will fully consider the panel recommendations and take into account geographic balance to ensure the most advantageous award of these funds to accomplish the system-building purposes outlined in the Solicitation. The grant officer may consider any information that comes to his or her attention. The grant officer reserves the right to award without negotiation. The criteria in Part V, Section 1 will serve as the basis upon which submitted applications will be evaluated.

VI. Award Administration Information

1. Award Notices

Award notifications will be posted on the ETA homepage at http://www.doleta.gov.

2. Administrative and National Policy Requirements

Administrative Program Requirements. All grantees, including faith-based organizations will be subject to all applicable Federal laws (including provisions in appropriations law), regulations, and the applicable Office of Management and Budget (OMB) Circulars. The applicants selected under the SGA will be subject to the following administrative standards and provisions, if applicable.

a. Workforce Investment Boards—20 CFR Part 667.220 (Administrative Costs).

b. Non-Profit Organizations—Office of Management and Budget (OMB) Circulars A-122 (Cost Principles) and 29 CFR Part 95 (Administrative Requirements).

c. Educational Institutions—OMB Circulars A-21 (Cost Principles) and 29 CFR Part 95 (Administrative Requirements).

d. State and Local Governments—OMB Circulars A-87 (Cost Principles) and 29 CFR Part 97 (Administrative Requirements).

e. Profit Making Commercial Firms—Federal Acquisition Regulation (FAR)-48 CFR Part 31 (Cost Principles), and 29 CFR Part 95 (Administrative Requirements).

f. All entities must comply with 29 CFR Parts 93 and 98, and, where applicable, 29 CFR Parts 96 and 99.

g. In accordance with Section 18 of the Lobbying Disclosure Act of 1995, Public Law 104-65 (2 U.S.C. 1611) non-profit entities incorporated under Internal Revenue Code section 501(c)(4) that engage in lobbying activities will not be eligible for the receipt of Federal funds and grants.

Note: Except as specifically provided in this Notice, USDOL-ETA's acceptance of a proposal and an award of Federal funds to sponsor any programs(s) does not provide a waiver of any grant requirements and/or procedures. For example, the OMB Circulars require that an entity's procurement procedures must ensure that all procurement transactions are conducted, as much as practical, to provide open and free competition. If a proposal identifies a specific entity to provide services, the USDOL-ETA's award does not provide the justification or basis to sole-source the procurement, i.e., avoid competition, unless the activity is regarded as the primary work of an official partner to the application.

3. Reporting Requirements

The grantee is required to provide the reports and documents listed below:

Quarterly Financial Reports. A Quarterly Financial Status Report (Form SF-269) is required until such time as all funds have been expended or the period of availability has expired. Quarterly reports are due 30 days after the end of each calendar year quarter. The grantee must use ETA's On-line Electronic Reporting System to submit the quarterly reports.

Narrative Progress Reports. The grantee must submit a quarterly financial and narrative progress report to the Federal Project Officer within 30 days following each quarter. Copies are to be submitted electronically providing a detailed account of activities undertaken during that quarter. Reports must include the following information for the grassroots grantees.

• The number of participants served per quarter (new and active), noting the specific services the grantee is providing in this project.

• The number of One-Stop Career Center clients referred to the grantee.

• Number of grantee participants referred to the One-Stop.

• The total number of volunteer hours committed to the grant program.

• Number of participants placed in post-secondary education or advanced training.

• Number of participants placed in a job.

• Average hourly wages at the time of job placement.

• Of the participants placed in a job since the beginning of the grant, how many were continuously employed for 6 months.

• Of the participants placed in a job since the beginning of the grant, how many were re-employed in the last 6 months.

• List other goals submitted with the grant application or additional goals developed for the program.

• List demographic information.

VII. Agency Contacts

Any questions regarding this SGA should be faxed to Marsha G. Daniels, Grants Management Specialist, Division of Federal Assistance, fax number (202) 693-2705. (This is not a toll-free number.) You must specifically address your fax to the attention of Marsha G. Daniels and should include SGA/DFA PY 04-03, a contact name, fax and phone number.

FOR FURTHER INFORMATION CONTACT: Marsha G. Daniels, Grants Management Specialist, Division of Federal Assistance, on (202) 693-3504. (This is not a toll-free number.) This announcement is also being made available on the USDOL-ETA Web site at http://www.doleta.gov/sga/sga.cfm and www.grants.gov. Award notifications will also be announced on this Web page.

Mailed applications must be addressed to the U.S. Department of Labor, Employment and Training Administration, Division of Federal Assistance, Attention: Marsha G. Daniels, Reference SGA/DFA PY04-03, 200 Constitution Avenue, NW., Room N-4438, Washington, DC 20210. Applicants are advised that mail delivery in the Washington area may be delayed due to mail decontamination procedures. Hand delivered proposals will be received at the above address. All overnight mail will be considered to be hand-delivered and must be received at the designated place by the specified closing date.

VIII. Other Information

DOL maintains a number of web-based resources that may be of assistance to applicants. The webpage for the Department's Center for Faith-Based & Community Initiatives (http://www.dol.gov/cfbci) is a valuable source of background on this initiative. America's Service Locator (www.servicelocator.org) provides a directory of our nation's One-Stop Career Centers. ETA has a webpage (www.doleta.gov/regions), which contains contact information for the state and local Workforce Investment Boards. Applicants are encouraged to review “Understanding the Department of Labor Solicitation for Grant Applications and How to Write an Effective Proposal” (http://www.dol.gov/cfbci/sgabrochure.htm).

For a basic understanding of the grants process and basic responsibilities of receiving Federal grant support, please see “Guidance for Faith-Based and Community Organizations on Partnering with the Federal Government (www.fbci.gov).

Signed at Washington, DC, this 22nd day of March, 2005.
Eric D. Luetkenhaus,
Grant Officer, Employment and Training Administration.

Appendix A: SF-424 Application for Federal Assistance

Appendix B: SF-424A Budget Form

Appendix C: OMB Survey N. 1890-0014: Survey on Ensuring Equal Opportunity for Applicants

[FR Doc. 05-5907 Filed 3-24-05; 8:45 am]

BILLING CODE 4510-30-P